DEPARTMENT OF COMMERCE

Census Bureau

Agency Information Collection Activities; Submission to the Office of Management and Budget (OMB) for Review and Approval; 2026 Government Units Survey; Cancellation

AGENCY: Census Bureau, Department of Commerce.

ACTION: Notice.

SUMMARY: Census Bureau published a document on February 20, 2025, which provided the Census Bureau's plans for the 2026 Government Units Survey. This notice serves as a notification of the cancellation of this collection, the 2026 Government Units Survey.

FOR FURTHER INFORMATION CONTACT: Requests for additional information should be directed to Joy Pierson, PSFCB Branch Chief, at 301-763-7196 or Joy.P.Pierson@census.gov and Mercera Silva, PSFCB Section Chief, at 301-763-8047 or Mercera.Silva@census.gov.

SUPPLEMENTARY INFORMATION: On February 20, 2025, Federal Register Document 2025-02857 was published, which provided the Census Bureau's plans for the 2026 Government Units Survey. The Census Bureau has recently determined that alternative data collection methods for identifying and classifying active governments for the Census of Governments are reliable. These methods include reviewing legislation and leveraging direct agreements with states. This will support data quality while alleviating respondent burden for local governments. This notice serves as notification of the cancellation of this collection after the Federal Register notice was published for public comment.

Sheleen Dumas,
Departmental PRA Clearance Officer, Office of the Under Secretary for Economic Affairs Commerce Department.

[FR Doc. 2025-06303 Filed 4-11-25; 8:45 am]

BILLING CODE 3510-07-P